FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012276-001.

Agreement Name: Hapag-Lloyd/Zim Mediterranean Slot Exchange Agreement.

Parties: Hapag-Lloyd AG and Zim Integrated Shipping Services, Ltd.

Filing Party: Wayne Rohde; Cozen O'Connor.

Synopsis: The amendment revises Article 4 to add Canada, the Dominican Republic and Colombia to the geographic scope of the Agreement. It also revises Article 5.1(b) with respect to the use of space, and revises Article 5.3 based on recent changes to the Shipping Act.

Proposed Effective Date: 12/1/2019.

Location: https://www2.fmc.gov/FMC.Agreements.Web/Public/AgreementHistory/135.

Dated: October 18, 2019.
Rachel E. Dickon,
Secretary.

[FR Doc. 2019-23126 Filed 10-22-19; 8:45 am]

BILLING CODE 6731-AA-P